FEDERAL EMERGENCY MANAGEMENT AGENCY

National Flood Insurance Program Call for Issues Final Report

AGENCY: Federal Emergency Management Agency (FEMA).

ACTION: Notice.

SUMMARY: We (FEMA) announce when and how our final report on the National Flood Insurance Program (NFIP)'s Call for Issues will be available to the public.

DATES: On June 15, 2000, we will post the report on our web site and will begin accepting orders for copies of the final report.

By August 1, 2000, we will make an initial distribution of the final report to each of the 173 respondents. We will respond to orders from the public during the fourth quarter of this fiscal year.

ADDRESSES: To place orders for the final NFIP Call for Issues report please contact the FEMA Distribution Center, P.O. Box 2012, Jessup, MD 20794.

FOR FURTHER INFORMATION CONTACT:

H. Joseph Coughlin, Jr., Assistant to the Federal Insurance Administrator, Federal Emergency Management Agency, 500 C Street SW., Washington, DC 20472; (202) 646-3449, (facsimile) (202) 646-7970, or (email) joseph.coughlin@fema.gov; or

Michael Robinson, Acting Chief, Policy Branch, Program Assessment and Outreach Division, the Mitigation Directorate, Federal Emergency Management Agency, 500 C Street SW., Washington, DC 20472; (202) 646-2716, (facsimile) (202) 646-2577, or (email) mike.robinson@fema.gov.

SUPPLEMENTARY INFORMATION: On September 9, 1998, we published at 63 FR 48222 a notice inviting the public to recommend how the National Flood Insurance Program (NFIP) may be even more effective than now. During the comment period, we received recommendations from 173 respondents. Those respondents submitted 796 recommendations spanning the insurance, mapping, and floodplain management components of the NFIP. We analyzed and evaluated extensively the public's comments and recommendations for the NFIP. In a number of cases, we adopted or will adopt the public's recommendation on how to improve a specific aspect of the program. In many other cases, we had anticipated the recommendation with initiatives planned or already underway when we received the recommendation. In other cases, we did not adopt the public's recommendation either because we do not believe it was in the best interests of the program or because we are addressing the recommendation in some other way. The final report contains:

• The public's recommendation to improve aspects of the NFIP,

• Our decision whether to adopt the public's recommendation, including our planned implementation or actual progress, and

• An explanation of our decision.

On June 15, 2000, we will post the final report on NFIP's Call for Issues on FEMA's web site, http://www.fema. gov/, and we will begin to accept orders for copies of the final report from members of the public who did not submit written comments during our call for issues. By August 1, 2000, we will send a copy of the final report to each of the 173 respondents who submitted written recommendations on how to improve the NFIP. We will respond to orders for the report from the public in the fourth quarter of this fiscal year.

A number of decisions contained in the report reflect a partial or future action that we will take and not the completed action to implement our decision. We will therefore publish an annual update to show our progress in implementing all recommendations that we have adopted—both the work completed since our last update and the current status of efforts underway but not yet finished. We will continue to publish these annual updates until we complete the final action on all adopted recommendations submitted during this call for issues on the NFIP.

We appreciate very much the comments and recommendations that we received and want to thank all those who participated for their time, effort and insights.

Dated: May 3, 2000.
Jo Ann Howard,
Administrator, Federal Insurance Administration.
Michael Armstrong,
Associate Director, Mitigation Directorate.

[FR Doc. 00-11987 Filed 5-11-00; 8:45 am]

BILLING CODE 6718-03-P